DEPARTMENT OF COMMERCE

National Oceanic and Atmospheric Administration

50 CFR Part 300

[Docket No.: 220210-0044]

RIN 0648-BL14

Pacific Halibut Fisheries; Catch Sharing Plan

AGENCY: National Marine Fisheries Service (NMFS), National Oceanic and Atmospheric Administration (NOAA), Commerce.

ACTION: Proposed rule; request for comments.

SUMMARY: NMFS proposes to approve changes to the Pacific Halibut Catch Sharing Plan for the International Pacific Halibut Commission's regulatory Area 2A off of Washington, Oregon, and California. In addition, NMFS proposes to implement management measures governing the 2022 recreational fisheries that are not implemented through the International Pacific Halibut Commission. These measures include the recreational fishery seasons, quotas, and management measures for Area 2A. These actions are intended to conserve Pacific halibut and provide angler opportunity where available.

DATES: Comments on the proposed rule must be received on or before March 4, 2022.

ADDRESSES: Submit your comments, identified by NOAA-NMFS-2022-0003, by either of the following methods:

• Electronic Submission: Submit all electronic public comments via the Federal e-Rulemaking Portal. Go to https://www.regulations.gov and enter NOAA-NMFS-2022-0003 in the Search box. Click on the “Comment” icon, complete the required fields, and enter or attach your comments.

• Mail: Submit written comments to Barry Thom, c/o Kathryn Blair, West Coast Region, NMFS, 1201 NE Lloyd Blvd., Suite 1100, Portland, OR 97232.

Instructions: NMFS may not consider comments if they are sent by any other method, to any other address or individual, or received after the comment period ends. All comments received are a part of the public record and NMFS will post them for public viewing on www.regulations.gov without change. All personal identifying information (e.g., name, address, etc.), confidential business information, or otherwise sensitive information submitted voluntarily by the sender is publicly accessible. NMFS will accept anonymous comments (enter “N/A” in the required fields if you wish to remain anonymous).

Docket: This rule is accessible via the internet at the Office of the Federal Register website at https://www.federalregister.gov. Background information and documents are available at the NMFS West Coast Region website at https://www.fisheries.noaa.gov/west-coast/sustainable-fisheries/fisheries-management-west-coast and at the Council's website at http://www.pcouncil.org. Other comments received may be accessed through Regulations.gov.

NMFS prepared a draft Environmental Assessment for this action pursuant to the National Environmental Policy Act. This draft can be viewed on NMFS' website at https://www.fisheries.noaa.gov/west-coast/laws-and-policies/west-coast-region-national-environmental-policy-act-documents. In order to comment on the Environmental Assessment, submit all public comments to Joshua Lindsay at joshua.lindsay@noaa.gov.

FOR FURTHER INFORMATION CONTACT: Kathryn Blair, phone: 503-231-6858, fax: 503-231-6893, or email: kathryn.blair@noaa.gov.

SUPPLEMENTARY INFORMATION:

Background

The Northern Pacific Halibut Act of 1982 (Halibut Act), 16 U.S.C. 773-773k, gives the Secretary of Commerce (Secretary) responsibility for implementing the provisions of the Convention between Canada and the United States for the Preservation of the Halibut Fishery of the North Pacific Ocean and Bering Sea (Halibut Convention), signed at Ottawa, Ontario, on March 2, 1953, as amended by a Protocol Amending the Convention (signed at Washington, DC, on March 29, 1979). The Halibut Act requires that the Secretary adopt regulations to carry out the purposes and objectives of the Halibut Convention and Halibut Act (16 U.S.C. 773c). Additionally, as provided in the Halibut Act, the Regional Fishery Management Councils having authority for the geographic area concerned may develop, and the Secretary of Commerce may implement, regulations governing harvesting privileges among U.S. fishermen in U.S. waters that are in addition to, and not in conflict with, approved International Pacific Halibut Commission (IPHC) regulations (16 U.S.C. 773c(c)).

At its annual meeting January 24-28, 2022, the IPHC recommended an Area 2A catch limit. This catch limit is derived from the total constant exploitation yield (TCEY) for Pacific halibut, which includes commercial discards and bycatch estimates calculated using a formula developed by the IPHC. As provided in the Halibut Act at 16 U.S.C. 773b, the Secretary of State, with the concurrence of the Secretary of Commerce, may accept or reject, on behalf of the United States, regulations recommended by the IPHC in accordance with the Convention. Following acceptance by the Secretary of State, the annual management measures promulgated by the IPHC are published in the Federal Register to provide notice of their immediate regulatory effectiveness and to inform persons subject to the regulations of their restrictions and requirements (50 CFR 300.62). Subject to acceptance by the Secretary of State with concurrence by the Secretary of Commerce, this proposed rule contains 2022 subarea quotas based on the Area 2A catch limit as recommended by the IPHC.

Since 1988, the Pacific Fishery Management Council (Council) has developed and NMFS has approved annual Catch Sharing Plans that allocate the IPHC regulatory Area 2A Pacific halibut catch limit between treaty Indian and non-Indian harvesters, and among non-Indian commercial and recreational (sport) fisheries. In 1995, the Council recommended, and NMFS approved a long-term Area 2A Catch Sharing Plan (60 FR 14651; March 20, 1995). NMFS has been approving adjustments to the Area 2A Catch Sharing Plan based on Council recommendations each year to address the changing needs of these fisheries. While the full Catch Sharing Plan is not published in the Federal Register, it is made available on the Council and NMFS websites.

This rule proposes to approve the Council's recommended changes to the Catch Sharing Plan for IPHC regulatory Area 2A. The 2022 Catch Sharing Plan was developed through the Council's public process. This rule would implement recreational Pacific halibut fishery management measures for 2022, which include season opening and closing dates. These management measures are consistent with the recommendations made by the Council in the 2022 Catch Sharing Plan and are detailed below.

Proposed Changes to the 2021 Area 2A Catch Sharing Plan

Each year at the Council's September meeting, members of the public have an opportunity to propose changes to the Catch Sharing Plan for consideration by the Council. At the September 2021 Council meeting, Washington Department of Fish and Wildlife (WDFW) and Oregon Department of Fish and Wildlife (ODFW) proposed changes to the Catch Sharing Plan. The Council voted to solicit public input on the changes recommended by WDFW and ODFW. WDFW and ODFW subsequently held public workshops on the proposed changes.

At its November 2021 meeting, the Council considered the results of the state-sponsored workshops on the proposed changes to the Catch Sharing Plan, along with public input provided at the 2021 September and November Council meetings, and made its recommendations for modifications to the Catch Sharing Plan. NMFS proposes to approve all of the Council's recommended changes to the Catch Sharing Plan, which are discussed below.

1. Section 6.8.1(c) of the Catch Sharing Plan stipulates that if any of the recreational fishery subareas north of Cape Falcon, Oregon are not projected to utilize their subarea quota by September 30, NMFS may take inseason action to transfer any projected unused quota to another Washington subarea. The Council recommended removing the September 30 date for taking inseason action. Removing this date would allow projected unused quota in one subarea to be transferred to another subarea for potential harvest earlier in the season (prior to September 30th), allowing for the potential of more open days and thereby provide more opportunity to anglers to achieve the quota. This provision is also codified at 50 CFR 300.63(c)(1)(iii), and this action proposes to remove the September 30 date in Federal regulations.

2. In section 6.9 and 6.11 of the Catch Sharing Plan, the Council recommended adding additional text clarifying that a management objective for the Washington and Oregon recreational fisheries is to establish season structures for each subarea that maximize fishing opportunity and achieve but not exceed subarea quotas. However, flexibility through timely inseason action, such as adding additional fishing days or shifting allocation between subareas, may be necessary to achieve the overall Washington and Oregon state recreational quotas.

3. In sections 6.9.1(d), 6.9.2(d), 6.9.3(d), and 6.10(d) of the Catch Sharing Plan, the Council recommended revising the season structure to allow the Washington and Columbia River subareas to be open for up to five days per week during August and September. The subareas will continue to be open for up to three days per week in April, May, and June. This change would provide more opportunity to achieve the subarea allocation by allowing the subareas to be open more days later in the season.

4. In section 6.9.1(f) of the Catch Sharing Plan, the Council recommended additional text clarifying that if the Puget Sound subarea season is closed prior to September 30, and there is insufficient quota for an additional fishing day, then any remaining Puget Sound subarea quota may be transferred inseason to another Washington coastal subarea by NMFS via an update to the recreational halibut hotline. This reiterates text at 6.8.1(c). NMFS would make this and other inseason actions in accordance with regulations at 300.63(c).

5. In section 6.11.1(d) of the Catch Sharing Plan, the Council recommended adding quota-based thresholds for setting open days in the Oregon Central Coast subarea's spring and summer all-depth fisheries. Specifically, if the Central Coast spring all-depth allocation based on the Catch Sharing Plan framework is greater than 100,000 pounds (45.36 metric tons (mt)), NMFS will set season dates such that the all-depth fishery may be open for up to seven days per week every week starting with the second Thursday in May through June 30, except that NMFS may skip certain weeks to avoid adverse tides. After June 30, the all-depth fishery will be open every other week. If after the first Central Coast summer all-depth opening (first Thursday through Saturday in August), NMFS estimates that there is 60,000 pounds (27.22 mt) or more remaining on the Central Coast combined nearshore and all-depth quotas, NMFS may open the all-depth fishery for up to seven days per week beginning September 1. This change would increase angler opportunity by allowing the Central Coast fisheries to be open for more days in years with a higher allocation.

6. In section 6.11.1 and 6.11.2, the Council recommended that, at the conclusion of the Oregon Central Coast spring all-depth season, IPHC, NMFS, the Council, and ODFW consult to determine whether increasing the bag limit to two fish is warranted, with the intent of achieving the subarea quota by September 30. If the bag limit change is made for the Central Coast subarea, it would also apply to the Southern Oregon subarea at the same time. This change would increase angler opportunity to achieve the Central Coast and Southern Oregon subareas allocation by increasing the bag limit earlier in the season.

Additional discussion of these changes is included in the materials submitted to the Council at its September and November meetings, available at https://www.pcouncil.org/council-meetings/previous-meetings/. A version of the Catch Sharing Plan including these changes can be found at https://www.pcouncil.org/managed_fishery/pacific-halibut/.

Proposed 2022 Recreational Fishery Management Measures

As described above, NMFS also proposes to implement recreational fishery management measures, including season dates for the 2022 fishery, consistent with the Council's recommendations in the 2022 Catch Sharing Plan. The Catch Sharing Plan includes a framework for setting days open for fishing by subarea; under this framework, each state submits final recommended season dates annually to NMFS during the proposed rule comment period. However, this proposed rule contains preliminary dates based either on the Catch Sharing Plan framework and/or recommendations received to date. In the final rule, NMFS will implement dates based on public comment, including comments from Oregon and California after each state has concluded its public meetings gathering input on season dates.

The final rule must be effective by April 7, in time for the start of recreational Pacific halibut fisheries. The 2022 Catch Sharing Plan provides the framework for the annual management measures and subarea allocations based on the 2022 Area 2A catch limit for Pacific halibut. The season dates and annual management measures in this rule were developed through the Council where the public had the opportunity to participate. In order to ensure that these management measures are effective in time for the start of the recreational fisheries on April 7, NMFS will solicit public comments on this proposed rule for 15 days.

NMFS proposes the following Area 2A recreational fishery management measures consistent with the Council's Catch Sharing Plan. After the opportunity for public comment, NMFS will publish a final rule approving the Catch Sharing Plan and promulgating the annual management measures for the Area 2A recreational fishery, as required by implementing regulations at 50 CFR 300.63(b)(1). If there is any discrepancy between the Catch Sharing Plan and Federal regulations, Federal regulations take precedence.

2022 Annual Recreational Management Measures

The recreational fishing subareas, quotas, fishing dates, and daily bag limits are as follows, except as modified under the inseason actions consistent with 50 CFR 300.63(c). All recreational fishing in Area 2A is managed on a “port of landing” basis, whereby any halibut landed into a port counts toward the quota for the area in which that port is located, and the regulations governing the area of landing apply, regardless of the specific area of catch.

Washington Puget Sound and the U.S. Convention Waters in the Strait of Juan de Fuca

The quota for the area in Puget Sound and the U.S. waters in the Strait of Juan de Fuca, east of a line extending from 48°17.30′ N lat., 124°23.70′ W long. north to 48°24.10′ N lat., 124°23.70′ W long., is 83,210 lb (37.74 mt).

(a) The fishing seasons are:

(i) For the area in Puget Sound and the U.S. waters in the Strait of Juan de Fuca, east of a line at approximately 123°49.60′ W long., NMFS is proposing to open the fishery on April 7-9, 14-16, 21-23, 28-30; May 5-7, 12-14, 19-21, 27-29; June 2-4, 9-11, 16-18, 23-25, and 30. If unharvested quota remains after June 30, NMFS may take inseason action to reopen the fishery August 18 through September 30, up to five days per week, on Thursday, Friday, Saturday, Sunday, and Monday of each week, or until there is not sufficient quota for another full day of fishing and the area is therefore closed. Any closure will be announced in accordance with Federal regulations at 50 CFR 300.63(c) and on the NMFS hotline at (206) 526-6667 or (800) 662-9825.

(ii) For the area in U.S. waters in the Strait of Juan de Fuca, approximately between 124°23.70′ W long. and 123°49.60′ W long., NMFS is proposing to open the fishery on May 5, 7, 12, 14, 19, 21, 27-29; June 2-4, 9-11, 16-18, 23-25, and 30. If unharvested quota remains after June 30, NMFS may take inseason action to reopen the fishery August 18 through September 30, up to five days per week, on Thursday, Friday, Saturday, Sunday, and Monday of each week, or until there is not sufficient quota for another full day of fishing and the area is therefore closed. Any closure will be announced in accordance with Federal regulations at 50 CFR 300.63(c) and on the NMFS hotline at (206) 526-6667 or (800) 662-9825.

(b) The daily bag limit is one halibut of any size per day per person.

Washington North Coast Subarea

The quota for landings into ports in the area off the north Washington coast, west of a line at approximately 124°23.70′ W long. and north of the Queets River (47°31.70′ N lat.), is 133,847 lb (60.71 mt).

(a) The fishing seasons are:

(i) NMFS is proposing to open the fishery on May 5, 7, 12, 14, 19, 21, 27, and 29; June 2, 4, 9, 11, 16, 18, 23, 25, and 30. If unharvested quota remains after June 30, NMFS may take inseason action to reopen the fishery August 18 through September 30, up to five days per week, on Thursday, Friday, Saturday, Sunday, and Monday of each week, or until there is not sufficient quota for another full day of fishing and the area is therefore closed. Any closure will be announced in accordance with Federal regulations at 50 CFR 300.63(c) and on the NMFS hotline at (206) 526-6667 or (800) 662-9825.

(b) The daily bag limit is one halibut of any size per day per person.

(c) Recreational fishing for groundfish and halibut is prohibited within the North Coast Recreational Yelloweye Rockfish Conservation Area (YRCA). It is unlawful for recreational fishing vessels to take and retain, possess, or land halibut taken with recreational gear within the North Coast Recreational YRCA. A vessel fishing with recreational gear in the North Coast Recreational YRCA may not be in possession of any halibut. Recreational vessels may transit through the North Coast Recreational YRCA with or without halibut on board. The North Coast Recreational YRCA is defined in groundfish regulations at 50 CFR 660.70(b).

Washington South Coast Subarea

The quota for landings into ports in the area between the Queets River, WA (47°31.70′ N lat.), and Leadbetter Point, WA (46°38.17′ N lat.), is 68,555 lb (31.10 mt).

(a) This subarea is divided between the all-depth fishery (the Washington South coast primary fishery), and the incidental nearshore fishery in the area from 47°31.70′ N lat. south to 46°58.00′ N lat. and east of a boundary line approximating the 30-fm (55-m) depth contour. This area (the Washington South coast northern nearshore area) is defined by straight lines connecting all of the following points in the order stated as described by the following coordinates:

(1) 47°31.70′ N lat, 124°37.03′ W long;

(2) 47°25.67′ N lat, 124°34.79′ W long;

(3) 47°12.82′ N lat, 124°29.12′ W long;

(4) 46°58.00′ N lat, 124°24.24′ W long.

NMFS is proposing to open the primary fishery on May 5, 8, 12, 15, 19, 22, and 26; June 16, 19, 23, and 26, or until there is not sufficient quota for another full day of fishing and the area is therefore closed. If unharvested quota remains after June 30, NMFS may take inseason action to reopen the fishery August 19 and/or September 23. Any closure will be announced on the NMFS hotline at (206) 526-6667 or (800) 662-9825. The fishing season in the Washington South Coast northern nearshore area commences the Saturday subsequent to the closure of the primary fishery in May or June if quota remains in the Washington South Coast subarea allocation, and continues seven days per week until 68,555 lb (31.10 mt) is projected to be taken by the two fisheries combined and the fishery is therefore closed or on September 30, whichever is earlier. If the fishery is closed prior to September 30, or there is insufficient quota remaining to reopen the Washington South coast, northern nearshore area for another fishing day, then any remaining quota may be transferred in-season to another Washington coastal subarea by NMFS, in accordance with Federal regulations at 50 CFR 300.63(c).

(b) The daily bag limit is one halibut of any size per day per person.

(c) Seaward of the boundary line approximating the 30-fm (55-m) depth contour and during days open to the primary fishery, lingcod may be taken, retained and possessed when allowed by groundfish regulations at 50 CFR 660.360(c).

(d) Recreational fishing for groundfish and halibut is allowed within the South Coast Recreational YRCA and Westport Offshore Recreational YRCA. The South Coast Recreational YRCA is defined at 50 CFR 660.70(e). The Westport Offshore Recreational YRCA is defined at 50 CFR 660.70(f).

Columbia River Subarea

The quota for landings into ports in the area between Leadbetter Point, WA (46°38.17′ N lat.), and Cape Falcon, OR (45°46.00′ N lat.), is 19,037 lb (8.64 mt).

(a) This subarea is divided into an all-depth fishery and a nearshore fishery. The nearshore fishery is allocated 500 lb (0.23 mt) of the subarea allocation. The nearshore fishery extends from Leadbetter Point (46°38.17′ N lat., 124°15.88′ W long.) to the Columbia River (46°16.00′ N lat., 124°15.88′ W long.) by connecting the following coordinates in Washington: 46°38.17′ N lat., 124°15.88′ W long. 46°16.00′ N lat., 124°15.88′ W long., and connecting to the boundary line approximating the 40-fm (73-m) depth contour in Oregon. NMFS is proposing to open the nearshore fishery May 9, and continue on Monday, Tuesday, and Wednesday each week until the nearshore allocation is taken, or on September 30, whichever is earlier. NMFS is proposing to open the all-depth fishery on May 5, 8, 12, 15, 19, 22, and 26; June 2, 5, 9, 12, 16, 19, 23, 26, and 30, or until there is not sufficient quota for another full day of fishing and the area is therefore closed. If unharvested quota remains after June 30, NMFS may take inseason action to reopen the fishery on August 19 and/or September 23. Any closure will be announced on the NMFS hotline at (206) 526-6667 or (800) 662-9825. Subsequent to this closure, if there is insufficient quota remaining in the Columbia River subarea for another fishing day, then any remaining quota may be transferred inseason to another Washington and/or Oregon subarea by NMFS, in accordance with Federal regulations at 50 CFR 300.63(c). Any remaining quota would be transferred to each state in proportion to the allocation formula in the Catch Sharing Plan.

(b) The daily bag limit is one halibut of any size per day per person.

(c) Pacific Coast groundfish may not be taken and retained, possessed or landed when halibut are on board the vessel, except sablefish, Pacific cod, flatfish species, yellowtail rockfish, widow rockfish, canary rockfish, redstripe rockfish, greenstriped rockfish, silvergray rockfish, chilipepper, bocaccio, blue/deacon rockfish, and lingcod caught north of the Washington-Oregon border (46°16.00′ N lat.) may be retained when allowed by Pacific Coast groundfish regulations at 50 CFR 660.360, during days open to the all-depth Pacific halibut fishery. Long-leader gear (as defined at 50 CFR 660.351) may be used to retain groundfish during the all-depth Pacific halibut fishery south of the Washington-Oregon border, when allowed by Pacific Coast groundfish regulations at 50 CFR 660.360.

(d) Taking, retaining, possessing, or landing halibut on groundfish trips is allowed in the nearshore area on days not open to all-depth Pacific halibut fisheries.

Oregon Central Coast Subarea

The quota for landings into ports in the area off Oregon between Cape Falcon (45°46.00′ N lat.) and Humbug Mountain (42°40.50′ N lat.), is 269,782 lb (122.37 mt).

(a) The fishing seasons are:

(i) NMFS is proposing to open the nearshore fishery on May 1, seven days per week, in the area shoreward of a boundary line approximating the 40-fm (73-m) depth contour, or until the sub-quota for the central Oregon nearshore fishery of 32,374 lb (14.68 mt), or any inseason revised quota is estimated to have been taken and the season is therefore closed, or on October 31, whichever is earlier. The boundary line approximating the 40-fm (73-m) depth contour between 45°46.00′ N lat. and 42°40.50′ N lat. is defined at 50 CFR 660.71(o).

(ii) If the spring all-depth quota is greater than 100,000 lbs, NMFS is proposing to open the spring all-depth fishery May 12 up to seven days per week through June 30, then open every other week. If the quota is 100,000 lbs or less, NMFS is proposing to open the fishery either May 12 and remain open Thursday through Saturday every week, or May 13 and remain open Friday and Saturday every week, until July 31 or until there is not sufficient quota for another full day of fishing and the area is therefore closed. The allocation to the all-depth fishery is 169,963 lb (77.09 mt).

(iii) NMFS is proposing to open the summer all-depth fishery on August 5-6, 18-20; September 1-3, 15-17, September 29-October 1, 13-15, and 27-29; or until the combined spring season and summer season quotas in the area between Cape Falcon and Humbug Mountain, OR, are estimated to have been taken and the area is therefore closed. NMFS, in accordance with notice procedures in Federal regulations at 50 CFR 300.63(c)(3), will announce on the NMFS hotline (206) 526-6667 or (800) 662-9825 in July whether the fishery will re-open for the summer season in August. Additional fishing days may be opened if enough quota to allow for additional days of fishing remains after the last day of the first scheduled open period. If, after this date, an amount greater than or equal to 60,000 lb (27.2 mt) remains in the combined nearshore, spring, and summer quota, NMFS may take inseason action to reopen the fishery every Thursday, Friday and Saturday, beginning August 4, 5, and 6, and/or the fishery may be open up to 7 days a week beginning September 1, ending when there is insufficient quota remaining or October 31, whichever is earlier. If after the September 6 an amount greater than or equal to 30,000 lb (13.6 mt) remains in the combined nearshore, spring, and summer quota, and the fishery is not already open every Thursday, Friday and Saturday, NMFS may take inseason action to re-open the fishery every Thursday, Friday and Saturday, beginning September 8, 9, and 10, through October 31, until there is not sufficient quota for another full day of fishing and the area is closed. At the conclusion of the spring all-depth season, NMFS may increase the bag limit to two fish of any size per person, per day. NMFS, in accordance with notice procedures at 50 CFR 300.63(c)(3), will announce on the NMFS hotline (206) 526-6667 or (800) 662-9825 whether the summer all-depth fishery will be open on such additional fishing days, what days the fishery will be open, and what the bag limit is.

(b) The daily bag limit is one halibut of any size per day per person, unless otherwise specified through inseason action. NMFS, in accordance with notice procedures at 50 CFR 300.63(c)(3), will announce on the NMFS hotline (206) 526-6667 or (800) 662-9825 any bag limit changes.

(c) During days open to all-depth halibut fishing when the groundfish fishery is restricted by depth, when halibut are on board the vessel, no groundfish, except sablefish, Pacific cod, and other species of flatfish (sole, flounder, sanddab), may be taken and retained, possessed or landed, except with long-leader gear (as defined at § 660.351), when allowed by groundfish regulations. During days open to all-depth halibut fishing when the groundfish fishery is open to all depths, any groundfish species permitted under the groundfish regulations may be retained, possessed or landed if halibut are on board the vessel. During days only open to nearshore halibut fishing, flatfish species may not be taken and retained seaward of the 40-fm (73-m) depth contour if halibut are on board the vessel.

(d) When the all-depth halibut fishery is closed and halibut fishing is permitted only shoreward of a boundary line approximating the 40-fm (73-m) depth contour, halibut possession and retention by vessels operating seaward of a boundary line approximating the 40-fm (73-m) depth contour is prohibited.

(e) Recreational fishing for groundfish and halibut is prohibited within the Stonewall Bank YRCA. It is unlawful for recreational fishing vessels to take and retain, possess, or land halibut taken with recreational gear within the Stonewall Bank YRCA. A vessel fishing in the Stonewall Bank YRCA may not possess any halibut. Recreational vessels may transit through the Stonewall Bank YRCA with or without halibut on board. The Stonewall Bank YRCA is defined at 50 CFR 660.70(g)-(i).

Southern Oregon Subarea

The quota for landings into ports in the area south of Humbug Mountain, OR (42° 40.50′ N lat.) to the Oregon/California Border (42°00.00′ N lat.) is 8,000 lb (3.63 mt).

(a) NMFS is proposing to open the fishery May 1, seven days per week, until the quota is taken or October 31, whichever is earlier.

(b) The daily bag limit is one halibut per person with no size limit, unless otherwise specified through inseason action. NMFS, in accordance with notice procedures at 50 CFR 300.63(c)(3), will announce on the NMFS hotline (206) 526-6667 or (800) 662-9825 any bag limit changes.

(c) During days open to the Pacific halibut fishery, when halibut are on board the vessel, no groundfish except sablefish, Pacific cod, and other species of flatfish (sole, flounder, sanddab), may be taken and retained, possessed or landed, except with long-leader gear (as defined at § 660.351) when allowed by groundfish regulations at 50 CFR 660.360.

California Coast Subarea

The quota for landings into ports south of the Oregon/California Border (42°00.00′ N lat.) and along the California coast is 38,740 lb (17.57 mt).

(a) NMFS is proposing to open the fishery May 1 through November 15, or until the subarea quota is estimated to have been taken and the season is therefore closed, whichever is earlier. NMFS, in accordance with notice procedures at § 300.63(c)(3), will announce any closure on the NMFS hotline (206) 526-6667 or (800) 662-9825.

(b) The daily bag limit is one halibut of any size per day per person.

Classification

Regulations governing the U.S. fisheries for Pacific halibut are developed by the IPHC, the Pacific Fishery Management Council, the North Pacific Fishery Management Council, the Secretary of State and the Secretary of Commerce. Additionally, as provided in the Halibut Act, the Regional Fishery Management Councils having authority for the geographic area concerned may develop, and the Secretary of Commerce may implement, regulations governing harvesting privileges among U.S. fishermen in U.S. waters that are in addition to, and not in conflict with, approved IPHC regulations (16 U.S.C. 773c(c)). The proposed action is consistent with the Council's authority to allocate halibut catches among fishery participants in the waters in and off Washington, Oregon, and California.

This proposed rule has been determined to be not significant for purposes of Executive Order 12866.

The Chief Counsel for Regulation of the Department of Commerce certified to the Chief Counsel for Advocacy of the Small Business Administration that this proposed rule, if adopted, would not have a significant economic impact on a substantial number of small entities, for the following reasons:

For Regulatory Flexibility Act (RFA) purposes only, NMFS has established a small business size standard for businesses, including their affiliates. Previous analyses determined that charterboats are small businesses (see 77 FR 5477 (February 3, 2012) and 76 FR 2876 (January 18, 2011)). Charter fishing operations are classified under NAICS code 487210, with a corresponding Small Business Association size standard of $7.5 million in annual receipts. No commercial fishing entities are directly affected by this rule.

This rule would revise the recreational Pacific halibut fishery management measures, including season dates and catch limits. This proposed rule would open the recreational fishery with 2022 season dates and subarea quotas impacting charter boats, anglers, and businesses relying on recreational fishing across all of Area 2A. Therefore, this rule may affect some charterboat operations in Area 2A. These changes were uncontroversial throughout the Council's public process, and overall participation in the recreational fisheries is not expected to change. There are no large entities involved in the halibut fisheries off of the West Coast. Since this action will only impact recreational charter vessels, which are small entities, none of these changes will have a disproportionately negative effect on small entities versus large entities.

In 2021, the IPHC issued 93 licenses to the charterboat fleet for Area 2A. Recent information on charterboat activity is not available, but prior analysis indicated that 60 percent of the IPHC charterboat license holders (around 56 vessels) participate in the Pacific halibut recreational fishery and may be affected by these regulations as those vessels operate in Area 2A. Private vessels used for recreational fishing are not businesses and are therefore not included in the RFA analysis.

The major effect of halibut management on small entities will be from the catch limit decisions made by the IPHC, a decision independent from this proposed action. This proposed action would implement management measures including season dates and quotas for the recreational fishery, and approves minor changes to the Catch Sharing Plan to provide increased recreational opportunities under the quotas that result from the Area 2A catch limit. The proposed changes to the Catch Sharing Plan are considered minor, with minimal economic effects. Profitability is largely based on the catch limit decision made by the IPHC, with subarea quotas determined based on the Catch Sharing Plan framework and the allocation formulae recommended by the Council. Therefore, the proposed rule is unlikely to affect the profitability of the recreational fishery.

For the reasons described above, the proposed action, if adopted, will not have a significant economic impact on a substantial number of small entities. As a result, an initial regulatory flexibility analysis is not required and none has been prepared.

This proposed rule contains no information collection requirements under the Paperwork Reduction Act of 1995.

List of Subjects in 50 CFR Part 300

Administrative practice and procedure, Antarctica, Canada, Exports, Fish, Fisheries, Fishing, Imports, Indians, Labeling, Marine resources, Reporting and recordkeeping requirements, Russian Federation, Transportation, Treaties, Wildlife.

Dated: February 10, 2022.
Samuel D. Rauch, III,
Deputy Assistant Administrator for Regulatory Programs, National Marine Fisheries Service.

For the reasons set out in the preamble, 50 CFR part 300, subpart E, is proposed to be amended as follows:

PART 300—INTERNATIONAL FISHERIES REGULATIONS

Subpart E—Pacific Halibut Fisheries

1. The authority citation for part 300, subpart E, continues to read as follows:

Authority: 16 U.S.C. 773-773k.

2. In § 300.63, revise paragraph (c)(1)(iii) to read as follows:

§ 300.63 Catch sharing plan and domestic management measures in Area 2A.

* * * * *

(c) * * *

(1) * * *

(iii) If any of the recreational fishery subareas north of Cape Falcon, Oregon are not projected to utilize their respective quotas, NMFS may take inseason action to transfer any projected unused quota to another Washington recreational subarea.

* * * * *

[FR Doc. 2022-03329 Filed 2-16-22; 8:45 am]

BILLING CODE 3510-22-P